DEPARTMENT OF ENERGY

Federal Energy Regulatory Commission

[Project No. 15332-000]

York Energy Storage, LLC; Notice of Preliminary Permit Application Accepted for Filing and Soliciting Comments, Motions To Intervene, and Competing Applications

On November 14, 2023, York Energy Storage, LLC, filed an application for a preliminary permit, pursuant to section 4(f) of the Federal Power Act (FPA), proposing to study the feasibility of the York Energy Storage Waterpower Project to be located near Lake Clarke, formed by the Safe Harbor Dam on the Susquehanna River, and Chanceford Township in York County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) a 9,800-foot-long, 225-foot-high dam, a 700-foot-long, 95-foot-high dike, and a 1,300-foot-long, 35-foot-high dike, creating an upper reservoir with a 580-acre surface area and a 26,000-acre-foot storage capacity at a normal pool elevation of 680 feet North American Vertical Datum of 1988 (NAVD88); (2) a 150-foot-long, 50-foot-wide concrete-lined emergency spillway at the east end of the upper reservoir; (3) utilization of Lake Clarke as a lower reservoir with a 7,360-acre surface area and a 144,000-acre-foot storage capacity at a normal pool elevation of 227.2 feet NAVD88; (4) a 44-foot-diameter shaft and tunnel trifurcating into three 20-foot-diameter steel-lined tunnels; (5) a 1,000-foot-long, 250-foot-wide, 50-foot-high underground powerhouse containing three 286-megawatt (MW) reversible pumping-generating units with a total installed capacity of 858 MW; (6) a 1,500-foot-long powerhouse access tunnel, an 18-foot-diameter vent, and cable shaft; (7) three concrete-lined tunnels leading to an outlet structure in Lake Clarke; (8) a 2,000-foot-long, 100-foot-wide porous dike, serving as part of the intake structure for fish protection, situated at the edge of Lake Clarke; (9) a 250-foot-long, 250-foot-wide above-ground switchyard; (10) a 3-mile-long, 500-kilovolt transmission line from a proposed switchyard to the Safe Harbor Substation in Manor Township, Lancaster County, Pennsylvania; and (11) appurtenant facilities. The proposed project would have an annual generation of 1,500,000 megawatt-hours.

Applicant Contact: Mr. William M. McMahon, York Energy Storage, LLC, 4824 Briarwood Circle, Reading, PA 19606; email: william.mcmahon.econ@earthlink.net; phone: (610) 823-2762.

FERC Contact: Woohee Choi; email: woohee.choi@ferc.gov; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15332-000.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

More information about this project, including a copy of the application, can be viewed or printed on the “eLibrary” link of the Commission's website at http://www.ferc.gov/docs-filing/elibrary.asp. Enter the docket number (P-15332) in the docket number field to access the document. For assistance, contact FERC Online Support.

Dated: February 1, 2024.
Debbie-Anne A. Reese,
Acting Secretary.

[FR Doc. 2024-02464 Filed 2-6-24; 8:45 am]

BILLING CODE 6717-01-P